DEPARTMENT OF ENERGY

Blue Ribbon Commission on America's Nuclear Future

AGENCY: Office of Nuclear Energy, Department of Energy.

ACTION: Notice of open meeting.

SUMMARY: This notice announces an open meeting of the Blue Ribbon Commission on America's Nuclear Future (the Commission). The Commission was organized pursuant to the Federal Advisory Committee Act (Pub. L. 92-463, 86 Stat. 770) (the Act). This notice is provided in accordance with the Act.

DATES: Tuesday, February 1, 2011, 9 a.m.-4 p.m.; Wednesday, February 2, 2011, 8:30 a.m.-12:15 p.m.

ADDRESSES: Washington Marriott Metro Center, 775 12th Street, NW., Washington, DC 20005. Telephone: (202) 737-2200.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information will be available at http://www.brc.gov.

SUPPLEMENTARY INFORMATION:

Background: The President directed that the Commission be established to conduct a comprehensive review of policies for managing the back end of the nuclear fuel cycle. The Commission will provide advice and make recommendations on issues including alternatives for the storage, processing, and disposal of civilian and defense spent nuclear fuel and nuclear waste. The Commission is scheduled to submit a draft report to the Secretary of Energy in July 2011 and a final report in January 2012.

This is the sixth full Commission meeting. Previous meetings were held in March, May, July, September, and November 2010. Webcasts of the previous meetings along with meeting transcripts and presentation are available at http://www.brc.gov.

Purpose of the Meeting: The main purpose of this meeting is to further investigate several of the cross-cutting issues that affect the three subcommittees of the Commission. The Commission will hear from a series of speakers and panelists who can provide insights on the organization and scope of the nation's nuclear waste management entity, waste program funding, and the site selection and development process.

Tentative Agenda: The meeting is expected to start at 9 a.m. on Tuesday, February 1, 2011. The schedule for February 1st will include presentations and statements to the Commission, as well as roundtable discussion. The meeting will resume at 8:30 a.m. on Wednesday, February 2, 2011, with presentations and statements to the Commission and Commission discussions lasting until about 11:15 a.m. The meeting will conclude with public statements and will end about 12:15 p.m.

Public Participation: Individuals and representatives of organizations who would like to offer comments and suggestions may do so at the end of the public session on Wednesday, February 2, 2011. Approximately 1 hour will be reserved for public comments from 11:15 a.m. to 12:15 p.m. Time allotted per speaker will depend on the number who wish to speak but will not exceed 5 minutes. The Designated Federal Officer is empowered to conduct the meeting in a fashion that will facilitate the orderly conduct of business. Those wishing to speak should register to do so beginning at 8 a.m. on February 2, 2011, at the Washington Marriott at Metro Center. Registration to speak will close at 10 a.m., February 2, 2011.

Those not able to attend the meeting or having insufficient time to address the subcommittee are invited to send a written statement to Timothy A. Frazier, U.S. Department of Energy, 1000 Independence Avenue, SW., Washington, DC 20585, e-mail to CommissionDFO@nuclear.energy.gov, or post comments on the Commission Web site at http://www.brc.gov.

Additionally, the meeting will be available via live video Web cast. The link will be available at http://www.brc.gov.

Minutes: The minutes of the meeting will be available at http://www.brc.gov or by contacting Mr. Frazier. He may be reached at the postal address or e-mail address above.

Issued in Washington, DC, on January 11, 2011.
LaTanya R. Butler,
Acting Deputy Committee Management Officer.

[FR Doc. 2011-902 Filed 1-14-11; 8:45 am]

BILLING CODE 6450-01-P